DEPARTMENT OF TRANSPORTATION

Federal Aviation Administration

Notice of Opportunity for Public Comment on Federally Obligated Property Release at Outlaw Field, Clarksville, TN

AGENCY: Federal Aviation Administration (FAA), DOT.

ACTION: Notice.

SUMMARY: Under the provisions of Title 49, U.S.C. section 47153(c), notice is being given that the FAA is considering a request from the Clarksville/Montgomery County Regional Airport Authority to waive the requirement that a 0.466-acre parcel of federally obligated property, located at Outlaw Field, be used for aeronautical purposes.

DATES: Comments must be received on or before December 20, 2001.

ADDRESSES: Comments on this notice may be mailed or delivered in triplicate to the FAA at the following address: Memphis Airports District Office, 3385 Airways Boulevard, Suite 302, Memphis, TN 38116-3841.

In addition, one copy of any comments submitted to the FAA must be mailed or delivered to Mr. John Jackson, Chairman of the Clarksville/Montgomery County Regional Airport Authority at the following address: 200 Airport Road, Clarksville, TN 37042.

FOR FURTHER INFORMATION CONTACT: Cynthia K. Willis, Program Manager, Memphis Airports District Office, 3385 Airways Boulevard, Suite 302, Memphis, TN 38116-3841, (901) 544-3495 extension 16. The application may be reviewed in person at this same location.

SUPPLEMENTARY INFORMATION: The FAA is reviewing a request by Clarksville/Montgomery County Regional Airport Board to release 0.466 acres of federally obligated property at Outlaw Field. The property will be purchased by the State of Tennessee Department of Transportation and used for the widening of Tiny Town Road. The land is located at the intersection of Tiny Town Road and Outlaw Field Road, which is an area north of Runway 17. Release of the property will allow for a realignment at the intersection of Outlaw Field Road and Tiny Town Road due to the widening of Tiny Town Road from two lanes to five lanes by the State of Tennessee Department of Transportation. The net proceeds from the non-aeronautical use or the sale of this property will be used for airport purposes.

Any person may inspect the request in person at the FAA office listed above under FOR FURTHER INFORMATION CONTACT. In addition, any person may, upon request, inspect the request, notice and other documents germane to the request in person at the Clarksville/Montgomery County Regional Airport Authority.

Issued in Memphis, Tennessee on November 13, 2001.
LaVerne F. Reid,
Manager, Memphis Airports District Office, Southern Region.

[FR Doc. 01-28939 Filed 11-19-01; 8:45 am]

BILLING CODE 4910-13-M